DEPARTMENT OF ENERGY

Federal Energy Regulatory Commission

[Docket No. EL15-68-000]

Midcontinent Independent System Operator, Inc.; Notice of Filing

On June 18, 2015, pursuant to section 206 of the Federal Power Act, 16 U.S.C. 824e, the Commission instituted an investigation in Docket No. EL15-68-000 to examine the justness and reasonableness of the pro forma Facilities Construction Agreement (FCA), Generator Interconnection Agreement (GIA), and Multi-Party Facilities Construction Agreement (MPFCA) contained in Midcontinent Independent System Operator, Inc.'s (MISO) Open Access Transmission, Energy and Operating Reserve Markets Tariff (Tariff). Midcontinent Indep. Sys. Operator, Inc., et al., 151 FERC ¶ 61,220 (2015). The Commission found that, upon initial review, the pro forma FCA, GIA, and MPFCA may be unjust and unreasonable, and that the potentially unjust and unreasonable Tariff language could be remedied with certain revisions. The Commission required MISO to make a filing either to (1) report whether it will propose Tariff changes as suggested by the Commission or (2) explain why such changes are not necessary. Take notice that, on August 17, 2015, MISO submitted a filing in response to the Commission's directive.

The Commission is now providing an opportunity for other parties to comment on the Commission's preliminary findings in the section 206 proceeding in Docket No. EL15-68-000, as well as MISO's response to the Commission's directive. Any person desiring to comment must file in accordance with Rules 211 and 214 of the Commission's Rules of Practice and Procedure (18 CFR 385.211, 385.214). Comments will be considered by the Commission in determining the appropriate action to be taken, but intervention is necessary to become a party to the proceeding.

The Commission encourages electronic submission of comments in lieu of paper using the “eFiling” link at http://www.ferc.gov. Persons unable to file electronically should submit an original and 5 copies of the comments to the Federal Energy Regulatory Commission, 888 First Street NE., Washington, DC 20426.

MISO's filing is accessible on-line at http://www.ferc.gov, using the “eLibrary” link and is available for electronic review in the Commission's Public Reference Room in Washington, DC. For assistance with any FERC Online service, please email FERCOnlineSupport@ferc.gov, or call (866) 208-3676 (toll free). For TTY, call (202) 502-8659.

Comment Date: 5:00 p.m. Eastern Time on September 30, 2015.

Dated: September 9, 2015.
Kimberly D. Bose,
Secretary.

[FR Doc. 2015-23148 Filed 9-14-15; 8:45 am]

BILLING CODE 6717-01-P